DEPARTMENT OF LABOR

Office of the Secretary

Agency Information Collection Activities; Submission for OMB Review; Comment Request for Proposed Information Collection: Contractor Survey Under the Federal Employees' Compensation Act

ACTION: Notice.

SUMMARY: The Department of Labor (DOL) hereby announces the submission of the proposed information collection request (ICR) sponsored by the Office of Workers' Compensation Programs titled, “Contractor Survey under Federal Employees' Compensation Act,” to the Office of Management and Budget (OMB) for review and approval in accordance with the Paperwork Reduction Act of 1995 (PRA) (Pub. L. 104-13, 44 U.S.C. chapter 35).

DATES: Submit comments on or before November 3, 2010.

ADDRESSES: A copy of this ICR, with applicable supporting documentation; including a description of the likely respondents, proposed frequency of response, and estimated total burden may be obtained from the RegInfo.gov Web site, http://www.reginfo.gov/public/do/PRAMain, or by contacting Michel Smyth by telephone at 202-693-4129 (this is not a toll-free number) or sending an e-mail to DOL_PRA_PUBLIC@dol.gov.

Submit comments about this request to the Office of Information and Regulatory Affairs, Attn: OMB Desk Officer for the Department of Labor, Office of Workers' Compensation Programs, Office of Management and Budget, Room 10235, Washington, DC 20503, Telephone: 202-395-6929/Fax: 202-395-6974 (these are not toll-free numbers), e-mail: OIRA_submission@omb.eop.gov.

FOR FURTHER INFORMATION: Contact Michel Smyth by telephone at 202-693-4129 (this is not a toll-free number) or by e-mail at DOL_PRA_PUBLIC@dol.gov.

SUPPLEMENTARY INFORMATION: The Federal Employees' Compensation Act provides workers' compensation coverage to three million federal and postal workers around the world for employment-related injuries and occupational diseases. The Division of Federal Employees' Compensation (DFEC) is charged with administering the FECA program. To obtain better feedback regarding various DFEC programs and functions, the DFEC is seeking approval to allow contract personnel such as Continuation of Pay (COP) Nurses, Field Nurses, and Rehabilitation Counselors, the opportunity to participate and provide feedback on DFEC effectiveness. These resources play a vital role in assisting the DFEC with the mission of returning injured employees to gainful employment. To this end, DOL seeks implementation of three separate surveys for this group. These surveys may be used on occasion, and a three-year approval for this new information collection is requested. For additional information, see the related notice published in the Federal Register on June 18, 2010 (75 FR 34769).

Under the Paperwork Reduction Act, a Federal agency generally cannot conduct or sponsor a collection of information unless it is approved by the OMB under the PRA and displays a currently valid OMB control number. Furthermore, the public is not required to respond to a collection of information unless it displays a currently valid OMB control number. In addition, notwithstanding any other provisions of law, no person shall be subject to penalty for failing to comply with a collection of information if the collection of information does not display a currently valid OMB control number. See 5 CFR 1320.5(a) and 1320.6.

Parties interested in commenting on this request are encouraged to send comments to the OMB, Office of Information and Regulatory Affairs at the address shown in the ADDRESSES section within 30 days of publication of this notice in the Federal Register. In order to ensure the appropriate consideration, comments should reference OMB Information Collection Request Reference Number 201005-1240-004. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of Workers' Compensation Programs.

Type of Review: New collection (Request for a new OMB Control Number).

Title of Collection: Contractor Survey under the Federal Employees' Compensation Act.

Form Numbers: None.

OMB Control Number: 1240-ONEW.

Affected Public: Private Sector: Business or other for-profit.

Total Estimated Number of Responses: 330.

Total Estimated Annual Burden Hours: 82.

Estimated Time per Response: 15 minutes.

Total Estimated Annual Costs Burden: $0.

Dated: September 28, 2010.
Michel Smyth,
Departmental Clearance Officer.

[FR Doc. 2010-24769 Filed 10-1-10; 8:45 am]

BILLING CODE 4510-CH-P